DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On August 21, 2018, OFAC determined that the property and interests in property subject to U.S. jurisdiction of the following persons, and the following vessels subject to U.S. jurisdiction, are blocked pursuant to the relevant sanctions authority listed below.

Entities

1. GUDZON SHIPPING CO LLC (a.k.a. LLC GUDZON SHIPPING CO; a.k.a. OOO GUDZON SHIPPING CO; a.k.a. SK GUDZON, OOO), ul Tigorovaya 20A, Vladivostok, Primorskiy kray 690091, Russia; Company Number IMO 5753988 [DPRK4].

Designated pursuant to Section 1(a)(v) of Executive Order 13810 of September 20, 2017 “Imposing Additional Sanctions With Respect to North Korea” (E.O. 13810) for having materially assisted, sponsored, or provided financial, material, or technological support for, or goods or services to or in support of KOREA ACHIM SHPG CO, a person whose property and interests in property are blocked pursuant to E.O. 13810.

2. PRIMORYE MARITIME LOGISTICS CO LTD (a.k.a. “PML CO LTD”), 01 ul Tigorovaya 20A, Vladivostok, Primorskiy kray 690091, Russia; Company Number IMO 5993381 [DPRK4].

Designated pursuant to Section 1(a)(v) of E.O. 13810 for having materially assisted, sponsored, or provided financial, material, or technological support for, or goods or services to or in support of KOREA ACHIM SHPG CO, a person whose property and interests in property are blocked pursuant to E.O. 13810.

Vessels

1. BELLA Russia flag; Vessel Registration Identification IMO 8808264 (vessel) [DPRK4] (Linked To: GUDZON SHIPPING CO LLC).

Identified pursuant to E.O. 13810 as property in which GUDZON SHIPPING CO LLC, a person whose property and interests in property are blocked pursuant to E.O. 13810, has an interest.

2. BOGATYR Russia flag; Vessel Registration Identification IMO 9085730 (vessel) [DPRK4] (Linked To: GUDZON SHIPPING).

Identified pursuant to E.O. 13810 as property in which GUDZON SHIPPING CO LLC, a person whose property and interests in property are blocked pursuant to E.O. 13810, has an interest.

3. NEPTUN Russia flag; Vessel Registration Identification IMO 8404991 (vessel) [DPRK4] (Linked To: GUDZON SHIPPING CO LLC).

Identified pursuant to E.O. 13810 as property in which GUDZON SHIPPING CO LLC, a person whose property and interests in property are blocked pursuant to E.O. 13810, has an interest.

4. PARTIZAN Russia flag; Vessel Registration Identification IMO 9113020 (vessel) [DPRK4] (Linked To: GUDZON SHIPPING CO LLC).

Identified pursuant to E.O. 13810 as property in which GUDZON SHIPPING CO LLC, a person whose property and interests in property are blocked pursuant to E.O. 13810, has an interest.

5. PATRIOT Russia flag; Vessel Registration Identification IMO 9003550 (vessel) [DPRK4] (Linked To: PRIMORYE MARITIME LOGISTICS CO LTD; Linked To: GUDZON SHIPPING CO LLC).

Identified pursuant to E.O. 13810 as property in which GUDZON SHIPPING CO LLC, a person whose property and interests in property are blocked pursuant to E.O. 13810, has an interest.

Also identified pursuant to E.O. 13810 as property in which PRIMORYE MARITIME LOGISTICS CO LTD, a person whose property and interests in property are blocked pursuant to E.O. 13810, has an interest.

6. SEVASTOPOL Russia flag; Vessel Registration Identification IMO 9235127 (vessel) [DPRK4] (Linked To: GUDZON SHIPPING CO LLC).

Identified pursuant to E.O. 13810 as property in which GUDZON SHIPPING CO LLC, a person whose property and interests in property are blocked pursuant to E.O. 13810, has an interest.

Dated: August 21, 2018.
Andrea M. Gacki,
Acting Director, Office of Foreign Assets Control.

[FR Doc. 2018-18350 Filed 8-23-18; 8:45 am]

BILLING CODE 4810-AL-P